FEDERAL EMERGENCY MANAGEMENT AGENCY

Radiological Emergency Preparedness: Alert and Notification

AGENCY: Federal Emergency Management Agency.

ACTION: Notice.

SUMMARY: FEMA is considering whether it should continue to require State and local emergency management agencies to characterize and to identify the appropriate Emergency Classification Level (ECL) when initially notifying the public of incidents at nuclear power plants. We also are considering whether to leave to the discretion of State and local emergency management agencies what, if anything, to say about protective action recommendations. We invite your views on these issues and on any other concerns that you may have about the content of initial notification messages.

DATES: Please submit your comments on or before August 10, 2001.

ADDRESSES: Please submit your comments to the Rules Docket Clerk, Office of the General Counsel, Federal Emergency Management Agency, 500 C Street, SW., room 840, Washington, DC 20472, or send them by e-mail to rules@fema.gov. Please refer to the “REP Alert and Notification Notice” in the subject line of your e-mail or comment letter.

FOR FURTHER INFORMATION CONTACT: Vanessa Quinn, Chief, Radiological Emergency Preparedness Branch, Chemical and Radiological Preparedness Division, Federal Emergency Management Agency, 500 C Street SW., Washington, DC 20472; (202) 646-3664, or (e-mail) vanessa.quinn@fema.gov, or Nathan S. Bergerbest, Office of the General Counsel, Federal Emergency Management Agency, 500 C Street, SW., Washington DC 20472, (202) 646-2685, or (e-mail) nathan.bergerbest@fema.gov.

SUPPLEMENTARY INFORMATION: The Federal Emergency Management Agency (FEMA), through its Radiological Emergency Preparedness program (REP), reviews the emergency response plans of Offsite Response Organizations (OROs), which are the State and local emergency management agencies responsible for responding to incidents involving nuclear power plant. FEMA also conducts exercises to test the capability of OROs to perform in accordance with the provisions of their plans. These activities are undertaken pursuant to FEMA regulations, which appear in Part 350 of Title 44 of the Code of Federal Regulations and a Memorandum of Understanding between FEMA and the Nuclear Regulatory Commission which appears at 44 CFR Part 353, Appendix A.

FEMA recently completed a strategic review of the REP program. In the course of the strategic review, questions were raised regarding what information should be included in the initial message informing the public that an incident has occurred at a nuclear power plant.

FEMA requires that OROs demonstrate their ability to communicate effectively with the public following an incident at a nuclear power plant. We address how this initial notification should be given to the public in several guidance documents. These include the joint FEMA/Nuclear Regulatory Commission Criteria for Preparation and Evaluation of Radiological Emergency Response Plans and Preparedness in Support of Nuclear Power Plants (NUREG-0654/REP-1, Rev. 1), dated November 1980 ¹, FEMA's Radiological Emergency Preparedness Exercise Manual (REP-14), dated September, 1991 ², FEMA's Radiological Emergency Preparedness Exercise Evaluation Methodology (REP-15), dated September, 1991 ³ and FEMA's Guidance for Providing Emergency Information and Instructions to the Public for Radiological Emergencies Using the New Emergency Alert System (EAS), dated February 2, 1999.⁴

¹ Planning Standard F, evaluation criterion E.7

² Objective 11.

³ Objective 11.

⁴ Attachment “B” to Memorandum for FEMA Regional Directors and Regional Assistance Committee Chairs from Kay C. Goss, Associate Director for Preparedness, Training and Exercises. The attachment can be viewed at htpp://www.fema.gov/pte/rep/easrep.htm. (viewed May 30, 2001). This document is referred to as the “February 2, 1999 Guidance”).

FEMA regulations require that planning standards and evaluation criteria in NUREG-0654/FEMA REP-1, Rev. 1,⁵ and the Nuclear Regulatory Commission's emergency planning rule ⁶ are to be used in evaluating ORO plans and capabilities. While both the Nuclear Regulatory Commission's emergency planning rule and NUREG-0654/FEMA REP-1, Rev. 1 contemplate that initial notification messages will be made in a timely manner, neither prescribe the content of the initial notification message.⁷

⁵ 44 CFR 350.5.

⁶ 10 CFR 50.47, 10 CFR Part 50 (Appendix E) and Part 70.

⁷ Planning Standard “E”, evaluation criteria E.7 provides that “Each [ORO] shall provide written messages intended for the public, consistent with the [nuclear power plant's classification scheme. In particular, draft messages to the public giving instructions with regard to specific protective actions to be taken by occupants of affected areas shall be prepared and included as part of the State and local [emergency response plans]. Such messages should include the appropriate aspects of sheltering, ad hoc respiratory protection, e.g., handkerchief over mouth, thyroid blocking or evacuation * * *”

REP-14 Objectives 11.1 ⁸ and 11.2, interpret NUREG-0654/FEMA REP-1, Rev. 1 as it pertains to notification messages. Objective 11.1 requires that public notifications reflect official decisions made by responsible public safety agencies. Objective 11.2 requires that the information in these messages be understandable to the public and facilitate initiation of recommended protective actions by the public. Notwithstanding that Objective 11.2 seems to favor non-technical language, the explanatory material for Objective 11.2 suggests that “the plant status should be described by reference to both the potential for or actual release of radioactivity and the ECL,” ⁹ even if no protective action recommendation is made.

⁸ REP-14 Objective 11.1 refers to Objective 11, Demonstration Criterion 1. This classification system will be used throughout this notice.

⁹ See, Page D.11-2 of REP-14 (September 1991).

On February 2, 1999, the Associate Director of FEMA for Preparedness, Training & Exercises issued guidance indicating that initial messages transmitted through the EAS must contain the following five items:

1. Identification of the State or local government organization and the official with the authority for providing the EAS alert and message.

2. Identification of the commercial nuclear power plant, appropriate [ECL] and current status of radiological conditions at the plant (e.g., no release, potential for release or actual release and wind direction);

3. Call attention to REP-specific emergency information (e.g., brochures and information in telephone books) for use by the general public during an emergency.

4. Call attention to the possibility that a protective action may need to be taken by affected populations; and

5. Include a closing statement asking the affected and potentially affected population to stay tuned to [the] EAS station(s) for additional information. This additional information, when necessary could be in the form of a “Special News Broadcast” that would, as soon as possible, follow the EAS message.

FEMA is considering a proposal that emerged from the strategic review of the REP program, which would require the following items in the initial message:

1. The information presently required in points 1, 3 and 5 of the February 2, 1999 guidance;

2. Identification of the commercial nuclear power plant and a statement that an emergency situation exists at the plant, in place of the information required by point 2 of the February 2, 1999 guidance;

3. Deletion of point 4 of the February 2, 1999 guidance.

The effect of this proposal would be to no longer require that OROs refer to the ECL, characterize the nature of the emergency situation in the initial message or warn the public that a protective action recommendation may be subsequently issued in the initial message.

The proposal does not prevent the ORO from including this information in the initial message, at its discretion, or from using the limited time available in the initial message ¹⁰ to provide other information that supports public health and safety objectives. The proposal would not require that the ORO transmit a protective action recommendation in the initial message if none has been formulated or none is immediately warranted. Nor would the proposal in anyway affect the OROs obligation to provide candid information, including a plain language explanation of the situation at the plant, including the ECL, to the news media. It addresses only what information must be disseminated in the initial notification message.

¹⁰ Initial messages using the EAS may be limited to two minutes in length. See, Background on the Emergency Alert System (EAS) at http://www.fema.gov/pte/rep/easrep.htm (viewed June 4, 2001).

FEMA believes that there may be merit in such a proposal. Some OROs have expressed concern that despite public education campaigns, people outside of the radiological emergency preparedness community are not likely to understand or recall the meaning of an ECL. Concern also has been expressed that the brief characterization of an incident, in a two-minute initial notification, might lead people to take action on their own, prior to and perhaps in conflict with the OROs announced protective action recommendation. We are interested in hearing your views.

Coordination With the Nuclear Regulatory Commission

FEMA conducts the REP program in part under authority of a Memorandum of Understanding with the Nuclear Regulatory Commission. The text of the current Memorandum of Understanding is published in Appendix A to 44 CFR Part 353. Section E of the Memorandum of Understanding provides that the each agency will provide an opportunity for the other agency to review and comment on emergency planning and preparedness guidance (including interpretations of agreed joint guidance) prior to adoption as formal agency guidance. FEMA has transmitted a copy of this document to the Nuclear Regulatory Commission and requested their comments no later than the date upon which the public comment period closes.

Dated: June 5, 2001.
Archibald C. Reid III,
Acting Executive Associate Director, Preparedness, Training & Exercises Directorate.

[FR Doc. 01-14638 Filed 6-8-01; 8:45 am]

BILLING CODE 6718-06-P